PATENT AND TRADEMARK OFFICE

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Patent Cooperation Treaty.

Form Number(s): PTO/SB/2101/134/144, PTO 1382, PCT/Model of Power of Attorney, PCT/Model of General Power of Attorney, PCT/IPEA/401, PCT/IB/328.

Agency Approval Number: 0651-0021.

Type of Request: Revision of a currently approved collection.

Burden: 595,060 hours annually.

Number of Respondents: 439,554 responses per year.

Avg. Hours Per Response: Based on estimates and knowledge of this information collection, the USPTO estimates the burden hours required by the public to gather, prepare and submit the required information to be the following amounts of time: 1 hour for the Request and Fee Calculation (PCT/RO/101), demands (PCT/IPEA/401 Annex and Notes), and amendments; 3 hours for descriptions/claims/drawings/abstracts; 0.25 hours for transmittal letters to the RO/US (PRO/1382), PCT/Model of Power of Attorney, PCT/Model of General Power of Attorney, extensions of time, priority documents, indications/deposited microorganisms, notices/confirmation/precautionary designations, notices effecting later elections (PCT/IB/328), and for fee authorizations; 2 hours for responses to invitations to correct defects; 0.5 hours for requests for rectification of obvious errors; and 4 hours for petitions. In addition, the USPTO estimates that it will take the following amount of time for the public to provide the information for these information requirements overlooked in previous submissions: 0.25 hours for requests to the IB to transmit copies of an international application; withdrawals of international applications, designations of the state, demands, election, and priority claims; and requests/authorizations to access international applications; and 2 hours for translations. The time estimates for the forms include the amount of time the USPTO estimates it will take an applicant to read and understand the instructions, gather the necessary information, complete the forms, prepare the necessary attachments, and submit the forms to the USPTO.

Needs and Uses: This information collection is required by the provisions of the Patent Cooperation Treaty (PCT). The PCT is administered by the International Bureau (IB) of the World Intellectual Property Organization (WIPO) in Geneva, Switzerland. The general purpose of the PCT is to simplify the filing of international applications for the same invention in each of 108 designated countries. The USPTO would not be able to fulfill its obligations as a PCT Receiving Office (RO), an International Searching Authority (ISA), or as an International Preliminary Examining Authority (IPEA), if this information was not collected. The applicant must supply the information in order to apply for patent protection under the PCT. The USPTO uses the information to process, search and examine the application and to process any other communique concerning the application, as required by the PCT. The IB uses the information to administer international applications as required by the PCT. This information collection does have associated forms; however, not all of the information required by the collection is collected from the public by using forms.

Affected Public: Individuals or households; businesses or other for-profit; not-for-profit institutions; farms; the Federal Government; and state, local or tribal government.

Frequency: On occasion.

Respondent's Obligation: Required to obtain or retain benefits.

OMB Desk Officer: David Rostker, (202) 395-3897.

Copies of the above information collection proposal can be obtained by calling or writing Thao P. Nguyen, Acting Records Officer, Office of Data Management, Data Administration Division, (703) 308-7397, USPTO, Suite 310, 2231 Crystal Drive, Washington, DC 20231.

Written comments and recommendations for the proposed information collection should be sent on or before September 18, 2000 to David Rostker, OMB Desk Officer, Room 10202, New Executive Office Building, Washington, D.C. 20503.

Dated: August 11, 2000.
Thao P. Nguyen,
Acting Records Officer, USPTO, Office of Data Management, Data Administration Division.

[FR Doc. 00-20881 Filed 8-16-00; 8:45am]

BILLING CODE 3510-16-P